DEPARTMENT OF THE INTERIOR

Bureau of Land Management

[LLNM006200 L99110000.EK0000 XXX L4053RV]

Revision of Approved Information Collection; OMB Control No. 1004-0179

AGENCY: Bureau of Land Management, Interior.

ACTION: 30-Day notice and request for comments.

SUMMARY: The Bureau of Land Management (BLM) has submitted an information collection request to the Office of Management and Budget (OMB) to revise control number 1004-0179, “Helium Contracts.” This request is prompted by the need to update the control number in response to legislation.

DATES: The OMB is required to respond to this information collection request within 60 days but may respond after 30 days. For maximum consideration, written comments should be received on or before November 9, 2015.

ADDRESSES: Please submit comments directly to the Desk Officer for the Department of the Interior (OMB #1004-0179), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0179” regardless of the form of your comments.

FOR FURTHER INFORMATION CONTACT: Robert Jolley, at 806-356-1002. Persons who use a telecommunication device for the deaf may call the Federal Information Relay Service (FIRS) at 1-800-877-8339, to leave a message for Mr. Jolley. The FIRS is available 24 hours a day, 7 days a week. You will receive a reply during normal business hours. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on April 16, 2015, and the comment period ended June 15, 2015. The BLM received comments from one commenter. The commenter stated that we underestimated the burdens for “Refined Helium Deliveries Detail” and “Refiners' Tolling Occurrence Report.” In response, the BLM re-considered the burden estimates and changed the burden estimates for each of these information collection activities to four hours. The commenter also suggested revisions of the descriptions of the information collection activities to be consistent with the 2013 Act. The BLM concurs with these modifications and has made the suggested revisions.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0179 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Helium Contracts (43 CFR part 3195).

OMB Control Number: 1004-0179.

Summary: At present, control number 1004-0179 (expiration date: April 30, 2017) enables the BLM to monitor purchases and sales of helium from the Federal Helium Reserve. This information collection activity is in accordance with the BLM's authority to implement in-kind sales of helium in accordance with 43 CFR part 3195. The BLM seeks OMB clearance to revise and extend this ongoing collection of information for another 3 years. The requested revision will be the addition of a new form (“Refined Helium Deliveries Detail”) that will replace the existing non-form activity titled “Sales Reports.”

In addition, the BLM seeks OMB clearance to add information collection activities that are necessary for the implementation of the Helium Stewardship Act of 2013 (Act or 2013 Act), Public Law 113-40 (127 Stat. 534, codified at 50 U.S.C. 167-167q). Section 5(b)(8) of the 2013 Act amends 50 U.S.C. 167d, and establishes the following additional terms and conditions of Federal helium sales that necessitate new information collection activities:

• Parties to a helium storage contract with the BLM must disclose on a strictly confidential basis:

(1) The volumes and associated prices in dollars per thousand cubic feet (Mcf) in purchase and sales transactions made pursuant to any agreement entered into or renegotiated agreement during the preceding 1-year period in the United States involving at least 15 million standard cubic feet of crude or pure helium;

(2) Refinery operational capacity, future operational capacity, and excess refining capacity in Mcf; and

• Refiners of crude helium that enter into “tolling agreements” must submit a Tolling Occurrence Report to the BLM whenever they enter into such tolling agreements. (“Tolling agreements” refers to the helium industry's practice of processing or refining another party's helium at an agreed upon price. While refiners can purchase, access, and refine their own helium, non-refiners rely upon the refiners to process and refine the helium that they have purchased—this process is called tolling.)

Frequency of Collection: Quarterly for the Refined Helium Deliveries Detail; annually for the Calculation of Excess Refining Capacity and Refiners' Annual Tolling Report; and “on occasion” for the Refiners' Tolling Occurrence Report.

Forms:

Refined Helium Deliveries Detail;

Calculation of Excess Refining Capacity;

Refiners' Annual Tolling Report; and

Refiners' Tolling Occurrence Report.

Description of Respondents: Suppliers, purchasers, and refiners of Federal helium.

Estimated Annual Responses: 60.

Estimated Annual Burden Hours: 240.

Estimated Annual Non-Hour Costs: None.

The estimated annual burdens of these revised and new collection activities are itemized in the following table:

A. Type of response | B. Frequency | C. Number of respondents | D. Number of responses | E. Hours per response | F. Total hours (Column D x Column E)
Refined Helium Deliveries Detail | Quarterly | 10 | 40 | 4 | 160
Calculation of Excess Refining Capacity | Annually | 4 | 4 | 4 | 16
Refiners' Annual Tolling Report | Annually | 4 | 4 | 4 | 16
Refiners' Tolling Occurrence Report | On occasion | 4 | 12 | 4 | 48
Totals |  | 22 | 60 |  | 240

Jean Sonneman,
Bureau of Land Management, Information Collection Clearance Officer.

[FR Doc. 2015-25781 Filed 10-8-15; 8:45 am]

BILLING CODE 4310-84-P